DEPARTMENT OF AGRICULTURE

Forest Service

Information Collection; Request for Comment; Operating Plans

AGENCY: Forest Service, USDA.

ACTION: Notice.

SUMMARY: In accordance with the Paperwork Reduction Act of 1995, the Forest Service is seeking comments from all interested individuals and organizations on the extension of a currently approved information collection for Operating Plans.

DATES: Comments must be received in writing on or before December 18, 2006 to be assured of consideration. Comments received after that date will be considered to the extent practicable.

ADDRESSES: Comments concerning this notice should be addressed to Lathrop Smith, Forest Management, Mail Stop 1103, Forest Service, USDA, 1400 Independence Ave. SW., Washington, DC 20250-1103.

Comments also may be submitted via facsimile to (202) 205-1045 or by e-mail to: ContractPlans@fs.fed.us.

The public may inspect comments received at the Office of the Director, Forest Management Staff, Forest Service, USDA, Room 3NW, Yates Building, 1400 Independence Ave., SW., Washington, DC, during normal business hours. Visitors are encouraged to call ahead to (202) 205-1496 to facilitate entry to the building.

FOR FURTHER INFORMATION CONTACT: Lathrop Smith, Forest Management, 202-205-0858. Individuals who use TDD may call the Federal Relay Service (FRS) at 1-800-877-8339, 24 hours a day, every day of the year, including holidays.

SUPPLEMENTARY INFORMATION: Title: Operating Plans.

OMB Number: 0596-0086.

Expiration Date of Approval: March 31, 2007.

Type of Request: Extension of a currently approved collection.

Abstract: The National Forest Management Act, 16 U.S.C. 472a(14)(c) (Act) requires timber sale operating plans on timber sales that exceed 2 years in length. Operating plans are collected within 60 days of award of a timber sale contract and annually thereafter until contract is complete. Contracts less than 2 years in length only require an annual plan. Each FS-2400-3P, FS-2400-3S, FS-2400-3T, FS-2400-6, FS-2400-6T, timber sale contract, and FS-2400-13 and FS-2400-13T Integrated Resource contract lists the information requirements for the subject contract. The information collection under each contract varies depending on the size, scope and length of the contract but generally includes descriptions showing planned periods for and methods of road maintenance and road construction, timber harvesting, stewardship work (Integrated Resource Contracts only), slash disposal, and erosion control measures. Plans may also be required to address measures contractors will use to protect public safety in work areas, prevent and control fires, and prevent and control spills of petroleum products.

Contracting Officers collect this information from contractors. There is no prescribed format for the collection of this information, which may be submitted in the form of charts or letters.

The information is needed by the agency for a variety of uses associated with the administration of Timber Sale and Integrated Resource contracts including: (1) To plan and schedule contract administration workloads, (2) to plan and schedule the delivery of government furnished materials needed by contractors, (3) to assure public safety in the vicinity of contract work, (4) to identify contractor resources that may be used in emergency fire fighting situations, and (5) to determine contractor eligibility for additional contract time.

Without accurate plans showing when and how a contractor intends to operate, the Forest Service will be hindered in fulfilling its contractual obligations to cooperate with and not hinder the performance of the contractor. Such delays can lead to disputes, claims and possible default, as well as other problems. The Forest Service needs this information to help determine if a contractor is eligible for additional contract time (if needed).

Estimate of Annual Burden: 1.6 hours per response.

Type of Respondents: Contractors of Timber Sale and/or Integrated Resource contracts.

Estimated Annual Number of Respondents: 2,500.

Estimated Annual Number of Responses per Respondent: 3.8.

Estimated Total Annual Burden on Respondents: 15,200 hours.

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the request for Office of Management and Budget approval.

Dated: October 9, 2006.
Frederick Norbury,
Associate Deputy Chief, National Forest System.

[FR Doc. E6-17406 Filed 10-18-06; 8:45 am]

BILLING CODE 3410-11-P